DEPARTMENT OF DEFENSE

Defense Acquisition Regulations System

48 CFR Parts 227 and 252

RIN 0750-AG50

Defense Federal Acquisition Regulation Supplement; Government Rights in the Design of DoD Vessels (DFARS Case 2008-D039)

AGENCY: Defense Acquisition Regulations System, Department of Defense (DoD).

ACTION: Final rule.

SUMMARY: DoD is adopting as final, without change, an interim rule that amended the Defense Federal Acquisition Regulation Supplement to implement section 825 of the Duncan Hunter National Defense Authorization Act for Fiscal Year 2009 and the Vessel Hull Design Protection Amendments of 2008. Section 825 clarifies the Government's rights in technical data in the designs of a DoD vessel, boat, craft, or components thereof.

DATES: Effective Date: September 8, 2010.

FOR FURTHER INFORMATION CONTACT: Ms. Amy Williams, Defense Acquisition Regulations System, OUSD (AT&L) DPAP (DARS), 3060 Defense Pentagon, Room 3B855, Washington, DC 20301-3060. Telephone 703-602-0328; facsimile 703-602-0350. Please cite DFARS Case 2008-D039.

SUPPLEMENTARY INFORMATION:

A. Background

This final rule implements section 825 of the Duncan Hunter National Defense Authorization Act for Fiscal Year 2009 (Pub. L. 110-417) and the Vessel Hull Design Protection Amendments of 2008 (Pub. L. 110-434).

DoD published the interim rule in the Federal Register on November 23, 2009 (74 FR 61043). The comment period closed on January 22, 2010. No comments were received. Therefore, DoD is finalizing the interim rule without change.

This rule was not subject to Office of Management and Budget review under Executive Order 12866, dated September 30, 1993. This is not a major rule under 5 U.S.C. 804.

B. Regulatory Flexibility Act

DoD certifies that this rule will not have a significant economic impact on a substantial number of small entities within the meaning of the Regulatory Flexibility Act, 5 U.S.C. 601, et seq., because it does not create a significant economic impact on any entity. The rule creates an affirmative grant of appropriate rights in vessel design to the Government. No comments were received with regard to impact on small business.

C. Paperwork Reduction Act

The Paperwork Reduction Act does not apply because the DFARS rule does not impose any additional reporting or recordkeeping requirements that require the approval of the Office of Management and Budget under 44 U.S.C. 3501, et seq.

List of Subjects in 48 CFR Parts 227 and 252

Government procurement.

Ynette R. Shelkin,
Editor, Defense Acquisition Regulations System.

Interim Rule Adopted as Final Without Change

Accordingly, the interim rule amending 48 CFR parts 227 and 252 published at 74 FR 61043 on November 23, 2009, is adopted as final without change.

[FR Doc. 2010-22231 Filed 9-7-10; 8:45 am]

BILLING CODE 5001-08-P